DEPARTMENT OF ENERGY

Federal Energy Regulatory Commission

Combined Notice of Filings #1

Take notice that the Commission received the following electric corporate filings:

Docket Numbers: EC17-69-000.

Applicants: American Electric Power Service Corporation, Indiana Michigan Power Company.

Description: Supplement (submitting Public Version) to January 26, 2017 Application for Authorization under Section 203 of the FPA of American Electric Power Service Corporation, et al.

Filed Date: 4/11/17.

Accession Number: 20170411-5120.

Comments Due: 5 p.m. ET 4/21/17.

Docket Numbers: EC17-102-000.

Applicants: Spruce Generation, LLC, Armstrong Power, LLC, Troy Energy, LLC.

Description: Joint Application for Approval Under Section 203 of the Federal Power Act and Request for a Shortened Comment Period of Spruce Generation, LLC, et al.

Filed Date: 4/6/17.

Accession Number: 20170406-5793.

Comments Due: 5 p.m. ET 6/5/17.

Take notice that the Commission received the following exempt wholesale generator filings:

Docket Numbers: EG17-97-000.

Applicants: Caldwell County Solar LLC.

Description: Notice of Self-Certification of Exempt Wholesale Generator Status of Caldwell County Solar LLC.

Filed Date: 4/11/17.

Accession Number: 20170411-5180.

Comments Due: 5 p.m. ET 5/2/17.

Take notice that the Commission received the following electric rate filings:

Docket Numbers: ER17-1162-001.

Applicants: Midcontinent Independent System Operator, Inc., MidAmerican Energy Company.

Description: Tariff Amendment: 2017-04-10_Amendment to filing to revise MidAm Att O-27A Depreciation Rates to be effective 6/1/2017.

Filed Date: 4/10/17.

Accession Number: 20170410-5218.

Comments Due: 5 p.m. ET 4/17/17.

Docket Numbers: ER17-1402-000.

Applicants: Lively Grove Energy Partners, LLC.

Description: Tariff Cancellation: Notice of Cancellation of Market-Based Tariff to be effective 5/31/2017.

Filed Date: 4/11/17.

Accession Number: 20170411-5009.

Comments Due: 5 p.m. ET 5/2/17.

Docket Numbers: ER17-1403-000.

Applicants: Public Service Company of Colorado.

Description: § 205(d) Rate Filing: PSC-PRPA-414-0.1.0-NOC to be effective 4/12/2017.

Filed Date: 4/11/17.

Accession Number: 20170411-5082.

Comments Due: 5 p.m. ET 5/2/17.

Docket Numbers: ER17-1404-000.

Applicants: PJM Interconnection, L.L.C.

Description: § 205(d) Rate Filing: Queue #AB1-126, First Revised Service Agreement No. 4633 to be effective 2/1/2017.

Filed Date: 4/11/17.

Accession Number: 20170411-5124.

Comments Due: 5 p.m. ET 5/2/17.

Docket Numbers: ER17-1405-000.

Applicants: Midcontinent Independent System Operator, Inc.

Description: § 205(d) Rate Filing: 2017-04-11_SA 2753 NSP-Red Pine Wind GIA (H081) to be effective 3/29/2017.

Filed Date: 4/11/17.

Accession Number: 20170411-5143.

Comments Due: 5 p.m. ET 5/2/17.

Docket Numbers: ER17-1406-000.

Applicants: PJM Interconnection, L.L.C., Virginia Electric and Power Company.

Description: § 205(d) Rate Filing: PJM Transmission Owners submit revisions to Schedule 12-Assg. of Costs of TMEPs to be effective 12/31/9998.

Filed Date: 4/11/17.

Accession Number: 20170411-5172.

Comments Due: 5 p.m. ET 5/2/17.

Docket Numbers: ER17-1407-000.

Applicants: ITC Midwest LLC.

Description: § 205(d) Rate Filing: Concurrence IPL Amended Exhibits and Attachments (2017) to be effective 6/9/2017.

Filed Date: 4/11/17.

Accession Number: 20170411-5218.

Comments Due: 5 p.m. ET 5/2/17.

Docket Numbers: ER17-1408-000.

Applicants: Pacific Gas and Electric Company.

Description: § 205(d) Rate Filing: Amendment to Lassen Municipal Utility District IA (RS 225) to be effective 2/1/2017.

Filed Date: 4/11/17.

Accession Number: 20170411-5224.

Comments Due: 5 p.m. ET 5/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2017.
Kimberly D. Bose,
Secretary.

[FR Doc. 2017-07692 Filed 4-14-17; 8:45 am]

BILLING CODE 6717-01-P